GENERAL SERVICES ADMINISTRATION

[Notice-MG-2012-04; Docket 2012-0002]

Sequence 24 Findings of the EISA 436(h) Ad-Hoc Review Group on Green Building Certification Systems

AGENCY: Office of Federal High-Performance Green Buildings; Office of Government-wide Policy, General Services Administration.

ACTION: Request for information.

SUMMARY: GSA and its Federal agency partners in the EISA 436(h) Ad-Hoc Discussion Group are seeking public input regarding possible approaches GSA may take in fulfilling its requirement from the Energy Independence and Security Act (EISA) of 2007 to provide a formal recommendation to the Secretary of Energy that identifies a green building certification system(s) most likely to encourage a comprehensive and environmentally-sound approach to the certification of green Federal buildings. GSA is using the deliberations from the EISA 436(h) Ad-hoc Discussion Group as well as verbal and written public input from previously held listening sessions in June and July 2012 and this Federal Register Notice to inform its final recommendation to the Secretary of Energy. The information being asked for in this notice is not for the purpose of a proposed GSA rulemaking or a GSA regulation; GSA is requesting input from the public to better inform its recommendation to the Secretary of Energy on what green building certification system(s) the Federal government should use.

DATES: Interested parties should submit written comments by one of the methods shown below on or before 60 days after publication in the Federal Register to be considered in the formation of GSA's recommendation to the Secretary of Energy.

ADDRESSES: Submit comments in response to Notice-MG-2012-04 by any of the following methods:

• Regulations.gov: http://www.regulations.gov. Submit comments via the Federal eRulemaking portal by searching for “Notice-MG-2012-04”. Select the link “Submit a Comment” that corresponds with “Notice-MG-2012-04.” Follow the instructions provided at the “Submit a Comment” screen. Please include your name, company name (if any), and “Notice-MG-2012-04” on your attached document.

• Fax: 202-501-4067.

• Email: bryan.steverson@gsa.gov

• Mail: General Services Administration, Regulatory Secretariat (MVCB), ATTN: Hada Flowers, 1275 First Street NE., 7th Floor, Washington, DC 20417.

Instructions: Please submit comments only and cite Notice-MG-2012-04, in all correspondence related to this case. Visit http://www.gsa.gov/gbcertificationreview for more information.

FOR FURTHER INFORMATION CONTACT: GSA Sustainability Program Advisor: Bryan Steverson, 202-501-6115, bryan.steverson@gsa.gov.

SUPPLEMENTARY INFORMATION:

GSA and its Federal agency partners in the EISA 436(h) Ad-hoc Discussion Group are seeking public input regarding possible approaches GSA may take to carry out its responsibilities under the Energy Independence and Security Act of 2007 (EISA, Pub. L. 110-140) to evaluate green building certification systems and provide a formal recommendation to the Secretary of Energy on how green building certifications systems and related standards can be most effectively used by the Federal government to advance high performance in buildings.

Section 436 of EISA requires the Director of GSA's Office of Federal High-Performance Green Buildings to evaluate green building certification systems every five years to identify a system and certification level that “will be most likely to encourage a comprehensive and environmentally sound approach to the certification of green federal buildings.” EISA requires the GSA Administrator to provide his/her recommendation to the Secretary of Energy, who then consults with the Secretary of Defense and the GSA Administrator, to identify the system(s) appropriate for use in the Federal sector to certify green buildings.

GSA first evaluated certification systems in 2006 focusing on new construction. Based on this 2006 review, GSA recommended the U.S. Green Building Council's Leadership in Energy and Environmental Design (LEED) to the Secretary of Energy for use in the Federal sector. GSA completed its most recent evaluation of green building certification systems in May 2012 focusing on certification systems for new construction, major renovations, and existing buildings. In this review, three systems were evaluated in depth: Green Building Initiative's Green Globes (2010), U.S. Green Building Council's Leadership in Energy and Environmental Design (2009), and the International Living Building Institute's Living Building Challenge (2011). GSA evaluated the three green building certification systems against 27 new construction and 28 existing building statutory and Executive Order requirements. The study found that Green Globes aligns with more of the Federal requirements for new construction than LEED or Living Building Challenge while LEED aligns with more of the Federal requirements for existing buildings than Green Globes or Living Building Challenge. Ultimately, the 2012 report found that none of the existing green building certification systems as designed meets all of the Federal government's needs for high performance building metrics and conformity assessment, especially when considering the Federal sector's statutory requirements in this area. However, better alignment between Federal requirements and green building certification system metrics and documentation could reinforce and continue the important role that green building certification systems currently play within Federal portfolios and in harmonizing Federal green building activities with the private sector. To read the full study, please visit http://www.gsa.gov/gbcertificationreview.

In recognition that there was a high level of interest in this green building certification system review, both within and outside the Federal sector, GSA asked the Department of Energy and the Department of Defense to co-chair an Interagency Ad-Hoc Discussion Group to work through a set of related questions and issues:

• Interrelationships among green building certification systems and green building code-compliant standards for new construction;

• Federal high performance building design, construction and operations requirements;

• Metrics to inform building performance tracking and reporting;

• How high performance in buildings can reduce the total cost of ownership; and

• The appropriate role of green building certification systems in advancing high performance buildings in the Federal sector.

The EISA 436(h) Ad-hoc Discussion Group included representatives from major Federal real estate portfolio holders, including GSA, the Department of Defense, the Department of Energy, the Department of Agriculture, the Environmental Protection Agency, the Department of State, the Department of Health and Human Services, the Department of Veterans Affairs, and the Department of Justice. The Ad-Hoc Discussion Group met numerous times during May-July 2012 and held two public listening sessions to gather comments. This information and public comments collected from this request for information will be used by GSA to develop possible approaches that could form the basis of the EISA 436(h) recommendation. A full summary of the findings (and recommendations) from the Ad-hoc Discussion Group is available at http://www.gsa.gov/gbcertificationreview.

Key Concepts

Based on the deliberations of the EISA 436(h) Ad-Hoc Discussion Group and input received from the two public listening sessions, GSA is offering several key concepts for additional public comment.

1. Green building certification systems maintain robust integrated frameworks of performance metrics, standards and conformity assurance aimed at evaluating building performance. These systems are kept current with market developments, including maintenance of professional training and accreditation systems for designers, engineers, auditors and assessors to ensure professionals maintain their expertise in the evolving market. The Ad-hoc Discussion Group found that, properly aligned with government requirements, use of these systems saves government resources by eliminating the cost to Government of developing its own standards while furthering the policy of reliance on the private sector to supply Government needs for goods and services. GSA seeks public input on this finding.

2. If pursuing certification, an Agency should select the green building certification system that best suits its mission and portfolio needs. However, there are important guidelines that should be applied for use of green building certification systems in the Federal sector:

a. At the national level, guidance should be developed that identifies specific credits/points that all agencies should focus on when seeking certification. These points/credits should be aligned with Federal requirements and considered as “prerequisites” for Federal building certification. GSA is requesting public input on this strategy and on which points/credits should be considered as “prerequisites.”

b. For internal consistency and efficient use of resources, agencies should be encouraged to use only one system at the agency or service level. Effective use of these systems requires a high degree of familiarity with each system as well as the system's application to different building and types. Decisions to use multiple systems within one agency should be based on a finding that the organizational structure supports effective use of training resources, and meets portfolio needs considering broad classes of building and use types. GSA is requesting public input on this strategy and whether there are other tools that should be used in lieu of or in addition to green building certification systems.

c. Federal experience with green building certification systems has demonstrated that the systems are flexible enough to develop applications to all building types if Federal agencies have the right direction about how to use the systems, and that this direction should apply to all buildings, including special building types and building types/uses representing relatively small segments in the Federal portfolio. GSA seeks input on this finding.

3. The Federal sector should formalize a process to maintain currency with the evolution of green building certification systems and underlying standards. GSA requests public input on the proposed process below. Elements of the recommended “currency” process include:

a. The Federal sector should maintain currency in the use of any green building rating system and automatically adopt the newest version of any standard or green building certification system within one year after it is finalized, unless there is an overt decision not to adopt the latest version.

b. Representatives from major Federal real property portfolio holders and resource agencies should convene to review any updated green building certification systems and changes to standards critical to building performance in a process similar to the current EISA 436(h) interagency review.

c. GSA's Office of Federal High-Performance Green Buildings should track the evolution of green building certification systems and standards, and work with the Departments of Energy and Defense, and other agencies as appropriate, to review changes and propose any necessary Federal response.

4. Green building certification systems currently serve as a bridge both in supporting the transformation to high-performance within the Federal portfolio, and in harmonizing Federal green building activities with the private sector. The Federal government should strategically engage with green building certification system owners to develop better alignment with Federal agency requirements and needs while continuing the Federal government's role in market leadership. Strategically engaging to develop better alignment with Federal agency requirements and needs could include improving performance metrics and methodologies; addressing fundamental improvements in content such as life cycle impacts and human health and productivity needs; and increasing government efficiency by reducing duplication in documentation for conformity assurance. GSA requests public input into what the Federal role is in evolving green building certification systems, standards, and tools to better address Federal agency requirements and needs and support evolution in the market.

Dated: January 30, 2013.
Kevin Kampschroer
Federal Director, Office of Federal High-Performance Green Buildings, Office of Government-wide Policy, U.S. General Services Administration.

[FR Doc. 2013-02408 Filed 2-4-13; 8:45 am]

BILLING CODE 6820-14-P